DEPARTMENT OF ENERGY

Federal Energy Regulatory Commission

Combined Notice of Filings #1

Take notice that the Commission received the following electric rate filings:

Docket Numbers: ER10-2564-011; ER10-2289-011; ER10-2600-011.

Applicants: Tucson Electric Power Company, UNS Electric, Inc., UniSource Energy Development Company.

Description: Supplement to June 21, 2021 Notice of Non-Material Change in Status of Tucson Electric Power Company, et al.

Filed Date: 7/9/21.

Accession Number: 20210709-5165.

Comments Due: 5 p.m. ET 7/30/21.

Docket Numbers: ER11-1933-007.

Applicants: Green Mountain Power Corporation.

Description: Updated Market Power Analysis for the Northeast Region of Green Mountain Power Corporation.

Filed Date: 12/20/19.

Accession Number: 20191220-5290.

Comments Due: 5 p.m. ET 9/13/21.

Docket Numbers: ER20-1981-001.

Applicants: Pioneer Solar (CO), LLC.

Description: Notice of Change in Status of Pioneer Solar (CO), LLC.

Filed Date: 7/13/21.

Accession Number: 20210713-5162.

Comments Due: 5 p.m. ET 8/3/21.

Docket Numbers: ER20-1983-001.

Applicants: Central 40, LLC.

Description: Notice of Change in Status of Central 40, LLC.

Filed Date: 7/13/21.

Accession Number: 20210713-5161.

Comments Due: 5 p.m. ET 8/3/21.

Docket Numbers: ER21-2110-001.

Applicants: GenOn Power Midwest, LP.

Description: Tariff Amendment: Amendment to Requested Effective Date for Cancellation of RS FERC No. 2 to be effective 4/1/2022.

Filed Date: 7/14/21.

Accession Number: 20210714-5062.

Comments Due: 5 p.m. ET 8/4/21.

Docket Numbers: ER21-2113-001.

Applicants: Midcontinent Independent System Operator, Inc., International Transmission Company.

Description: Tariff Amendment: 2021-07-14_SA 3664 ITC-DTE Sub Amended GIOA to be effective 8/10/2021.

Filed Date: 7/14/21.

Accession Number: 20210714-5068.

Comments Due: 5 p.m. ET 8/4/21.

Docket Numbers: ER21-2410-000.

Applicants: Prairie Wolf Solar, LLC.

Description: Baseline eTariff Filing: Application for Market-Based Rate Authority to be effective 9/13/2021.

Filed Date: 7/13/21.

Accession Number: 20210713-5129.

Comments Due: 5 p.m. ET 8/3/21.

Docket Numbers: ER21-2411-000.

Applicants: Southwest Power Pool, Inc.

Description: § 205(d) Rate Filing: 3618R2 Little Blue Wind Project, LLC GIA to be effective 6/25/2021.

Filed Date: 7/14/21.

Accession Number: 20210714-5001.

Comments Due: 5 p.m. ET 8/4/21.

Docket Numbers: ER21-2412-000.

Applicants: Southwest Power Pool, Inc.

Description: § 205(d) Rate Filing: 3842 KPP and Sunflower Electric Interconnection Agreement to be effective 9/12/2021.

Filed Date: 7/14/21.

Accession Number: 20210714-5002.

Comments Due: 5 p.m. ET 8/4/21.

Docket Numbers: ER21-2413-000.

Applicants: American Electric Power Service Corporation, Ohio Power Company, PJM Interconnection, L.L.C.

Description: § 205(d) Rate Filing: AEP submits one FA re: ILDSA SA No. 1420 to be effective 9/13/2021.

Filed Date: 7/14/21.

Accession Number: 20210714-5074.

Comments Due: 5 p.m. ET 8/4/21.

Docket Numbers: ER21-2414-000.

Applicants: Midcontinent Independent System Operator, Inc.

Description: Compliance filing: 2021-07-14_Waiver Request for 2017 DPP West to be effective N/A.

Filed Date: 7/14/21.

Accession Number: 20210714-5075.

Comments Due: 5 p.m. ET 8/4/21.

Docket Numbers: ER21-2415-000.

Applicants: Great Bay Power Marketing, Inc.

Description: Notice of Cancellation of Market Based Rate Tariff of Great Bay Power Marketing, Inc.

Filed Date: 7/14/21.

Accession Number: 20210714-5076.

Comments Due: 5 p.m. ET 8/4/21.

Docket Numbers: ER21-2416-000.

Applicants: PJM Interconnection, L.L.C., American Electric Power Service Corporation, Ohio Power Company.

Description: § 205(d) Rate Filing: AEP submits one FA re: ILDSA SA No. 1676 to be effective 9/13/2021.

Filed Date: 7/14/21.

Accession Number: 20210714-5077.

Comments Due: 5 p.m. ET 8/4/21.

Docket Numbers: ER21-2417-000.

Applicants: PacifiCorp.

Description: § 205(d) Rate Filing: BPA NITSA—(Idaho Falls Power) Rev 4 to be effective 7/1/2021.

Filed Date: 7/14/21.

Accession Number: 20210714-5080.

Comments Due: 5 p.m. ET 8/4/21.

Docket Numbers: ER21-2418-000.

Applicants: Thermo Cogeneration Partnership, L.P.

Description: Tariff Cancellation: Notice of Cancellation of Market-Based Rate Tariff and Tariff ID to be effective 12/31/9998.

Filed Date: 7/14/21.

Accession Number: 20210714-5099.

Comments Due: 5 p.m. ET 8/4/21.

Docket Numbers: ER21-2419-000.

Applicants: RE Garland LLC.

Description: Initial rate filing: Garland Storage Shared Facilities Agreement Filing to be effective 7/15/2021.

Filed Date: 7/14/21.

Accession Number: 20210714-5114.

Comments Due: 5 p.m. ET 8/4/21.

Take notice that the Commission received the following electric securities filings:

Docket Numbers: ES21-54-000.

Applicants: Montana-Dakota Utilities Co.

Description: Application under Section 204 of the Federal Power Act for Authorization to Issue Securities of Montana-Dakota Utilities Co.

Filed Date: 7/12/21.

Accession Number: 20210712-5188.

Comments Due: 5 p.m. ET 8/2/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 14, 2021.
Debbie-Anne A. Reese,
Deputy Secretary.

[FR Doc. 2021-15482 Filed 7-20-21; 8:45 am]

BILLING CODE 6717-01-P